DEPARTMENT OF ENERGY

Federal Energy Regulatory Commission

Combined Notice of Filings #2

Take notice that the Commission received the following electric rate filings:

Docket Numbers: ER11-4525-001.

Applicants: Middletown Coke Company, LLC.

Description: Middletown Coke Company, LLC submits tariff filing per 35.17(b): Middletown Supplemental MBR to be effective 10/14/2011.

Filed Date: 09/28/2011.

Accession Number: 20110928-5120.

Comment Date: 5 p.m. Eastern Time on Wednesday, October 19, 2011.

Docket Numbers: ER11-4652-000.

Applicants: PECO Energy Company.

Description: PECO Energy Company submits tariff filing per 35.1: Schedule No. 137 to be effective 10/1/2011.

Filed Date: 09/28/2011.

Accession Number: 20110928-5000.

Comment Date: 5 p.m. Eastern Time on Wednesday, October 19, 2011.

Docket Numbers: ER11-4653-000.

Applicants: Idaho Power Company.

Description: Idaho Power Company submits tariff filing per 35.13(a)(2)(iii: BPA Residential Exchange Agreement to be effective 10/1/2011.

Filed Date: 09/28/2011.

Accession Number: 20110928-5001.

Comment Date: 5 p.m. Eastern Time on Wednesday, October 19, 2011.

Docket Numbers: ER11-4654-000.

Applicants: AEP Texas Central Company.

Description: AEP Texas Central Company submits tariff filing per 35.13(a)(2)(iii: 20110928 TCC-Midway Farms Wind PDA to be effective 8/31/2011.

Filed Date: 09/28/2011.

Accession Number: 20110928-5040.

Comment Date: 5 p.m. Eastern Time on Wednesday, October 19, 2011.

Docket Numbers: ER11-4655-000.

Applicants: Rensselaer Cogeneration LLC.

Description: Rensselaer Cogeneration LLC submits tariff filing per 35.1: Baseline MBR Tariff Filing to be effective 9/28/2011.

Filed Date: 09/28/2011.

Accession Number: 20110928-5041.

Comment Date: 5 p.m. Eastern Time on Wednesday, October 19, 2011.

Docket Numbers: ER11-4656-000.

Applicants: AEP Texas North Company.

Description: AEP Texas North Company submits tariff filing per 35.13(a)(2)(iii: TNC-White Camp Solar PDA to be effective 9/19/2011.

Filed Date: 09/28/2011.

Accession Number: 20110928-5060.

Comment Date: 5 p.m. Eastern Time on Wednesday, October 19, 2011.

Docket Numbers: ER11-4657-000.

Applicants: Apple Group.

Description: Apple Group submits tariff filing per 35.1: Apple Group Baseline Tariff to be effective 9/28/2011.

Filed Date: 09/28/2011.

Accession Number: 20110928-5072.

Comment Date: 5 p.m. Eastern Time on Wednesday, October 19, 2011.

Docket Numbers: ER11-4658-000.

Applicants: E Minus LLC.

Description: E Minus LLC submits tariff filing per 35.1: E Minus LLC Baseline Tariff to be effective 9/28/2011.

Filed Date: 09/28/2011.

Accession Number: 20110928-5073.

Comment Date: 5 p.m. Eastern Time on Wednesday, October 19, 2011.

Docket Numbers: ER11-4659-000.

Applicants: Raider Dog LLC.

Description: Raider Dog LLC submits tariff filing per 35.1: Raider Dog LLC Baseline Tariff to be effective 9/28/2011.

Filed Date: 09/28/2011.

Accession Number: 20110928-5078.

Comment Date: 5 p.m. Eastern Time on Wednesday, October 19, 2011.

Docket Numbers: ER11-4660-000.

Applicants: Driftwood LLC.

Description: Driftwood LLC submits tariff filing per 35.1: Driftwood LLC Baseline Tariff to be effective 9/28/2011.

Filed Date: 09/28/2011.

Accession Number: 20110928-5082.

Comment Date: 5 p.m. Eastern Time on Wednesday, October 19, 2011.

Docket Numbers: ER11-4661-000.

Applicants: Crafton LLC.

Description: Crafton LLC submits tariff filing per 35.1: Crafton LLC Baseline Tariff to be effective 9/28/2011.

Filed Date: 09/28/2011.

Accession Number: 20110928-5084.

Comment Date: 5 p.m. Eastern Time on Wednesday, October 19, 2011.

Docket Numbers: ER11-4662-000.

Applicants: Southwest Power Pool, Inc.

Description: Southwest Power Pool, Inc.'s Notice of Cancellation of Large Generator Interconnection Agreement.

Filed Date: 09/28/2011.

Accession Number: 20110928-5087.

Comment Date: 5 p.m. Eastern Time on Wednesday, October 19, 2011.

Docket Numbers: ER11-4664-000.

Applicants: New York Independent System Operator, Inc.

Description: New York Independent System Operator, Inc. submits tariff filing per 35.13(a)(2)(iii: NYISO Proposed Revisions to Penalties for Voltage Service Suppliers to be effective 11/27/2011.

Filed Date: 09/28/2011.

Accession Number: 20110928-5104.

Comment Date: 5 p.m. Eastern Time on Wednesday, October 19, 2011.

Docket Numbers: ER11-4665-000.

Applicants: North Branch Resources, LLC.

Description: North Branch Resources, LLC submits tariff filing per 35.1: NBR Baseline Tariff Filing to be effective 9/28/2011.

Filed Date: 09/28/2011.

Accession Number: 20110928-5105.

Comment Date: 5 p.m. Eastern Time on Wednesday, October 19, 2011.

Docket Numbers: ER11-4666-000.

Applicants: NaturEner Glacier Wind Energy 1, LLC.

Description: NaturEner Glacier Wind Energy 1, LLC submits tariff filing per 35.1: Baseline Filing of Market Based Rate Tariff to be effective 9/28/2011.

Filed Date: 09/28/2011.

Accession Number: 20110928-5106.

Comment Date: 5 p.m. Eastern Time on Wednesday, October 19, 2011.

Docket Numbers: ER11-4667-000.

Applicants: NaturEner Glacier Wind Energy 2, LLC.

Description: NaturEner Glacier Wind Energy 2, LLC submits tariff filing per 35.1: Baseline Filing of Market Based Rate Tariff to be effective 9/28/2011.

Filed Date: 09/28/2011.

Accession Number: 20110928-5107.

Comment Date: 5 p.m. Eastern Time on Wednesday, October 19, 2011.

Docket Numbers: ER11-4668-000.

Applicants: NaturEner Montana Wind Energy 2, LLC.

Description: NaturEner Montana Wind Energy 2, LLC submits tariff filing per 35.1: Baseline Filing of Market Based Rate Tariff to be effective 9/28/2011.

Filed Date: 09/28/2011.

Accession Number: 20110928-5110.

Comment Date: 5 p.m. Eastern Time on Wednesday, October 19, 2011.

Docket Numbers: ER11-4669-000.

Applicants: NaturEner Montana Wind Energy, LLC.

Description: NaturEner Montana Wind Energy, LLC submits tariff filing per 35.1: Baseline Filing of Market Based Rate Tariff to be effective 9/28/2011.

Filed Date: 09/28/2011.

Accession Number: 20110928-5114.

Comment Date: 5 p.m. Eastern Time on Wednesday, October 19, 2011.

Docket Numbers: ER11-4670-000.

Applicants: NaturEner Power Watch, LLC.

Description: NaturEner Power Watch, LLC submits tariff filing per 35.1: Baseline Filing of Market Based Rate Tariff to be effective 9/28/2011.

Filed Date: 09/28/2011.

Accession Number: 20110928-5116.

Comment Date: 5 p.m. Eastern Time on Wednesday, October 19, 2011.

Docket Numbers: ER11-4671-000.

Applicants: Southwest Power Pool, Inc.

Description: Southwest Power Pool, Inc. submits tariff filing per 35.13(a)(2)(iii: Implement Annual Updates to AEP Rate Formulas to be effective 7/1/2011.

Filed Date: 09/28/2011.

Accession Number: 20110928-5123.

Comment Date: 5 p.m. Eastern Time on Wednesday, October 19, 2011.

Docket Numbers: ER11-4672-000.

Applicants: Griffiss Utility Services Corporation.

Description: Griffiss Utility Services Corporation submits tariff filing per 35.12: Application for MBR Authority to be effective 12/1/2011.

Filed Date: 09/28/2011.

Accession Number: 20110928-5126.

Comment Date: 5 p.m. Eastern Time on Wednesday, October 19, 2011.

Take notice that the Commission received the following electric securities filings:

Docket Numbers: ES11-51-000.

Applicants: PacifiCorp.

Description: Application for Authorization to Issue and Sell up to $1.5 Billion of Promissory Notes of Unsecured Short-Term Indebtedness of Pacificorp.

Filed Date: 09/27/2011.

Accession Number: 20110927-5157.

Comment Date: 5 p.m. Eastern Time on Tuesday, October 18, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2011.
Nathaniel J. Davis, Sr.,
Deputy Secretary.

[FR Doc. 2011-26075 Filed 10-7-11; 8:45 am]

BILLING CODE 6717-01-P